DEPARTMENT OF ENERGY

Federal Energy Regulatory Commission

Combined Notice of Filings

Take notice that the Commission has received the following Natural Gas Pipeline Rate and Refund Report filings:

Filings Instituting Proceedings

Docket Numbers: RP16-853-000.

Applicants: Centra Pipelines Minnesota Inc.

Description: § 4(d) Rate Filing: Updated Shipper Index April 2016 to be effective 6/1/2016.

Filed Date: 4/18/16.

Accession Number: 20160418-5125.

Comments Due: 5 p.m. ET 5/2/16.

Docket Numbers: RP16-854-000.

Applicants: Rockies Express Pipeline LLC.

Description: § 4(d) Rate Filing: Neg Rate BP 2016-04-18 to be effective 4/16/2016.

Filed Date: 4/18/16.

Accession Number: 20160418-5170.

Comments Due: 5 p.m. ET 5/2/16.

Docket Numbers: RP16-855-000.

Applicants: National Grid LNG, LLC.

Description: Compliance filing Section 34 to be effective 4/1/2016.

Filed Date: 4/18/16.

Accession Number: 20160418-5202.

Comments Due: 5 p.m. ET 5/2/16.

Docket Numbers: RP16-856-000.

Applicants: Transcontinental Gas Pipe Line Company.

Description: Compliance filing Docket Nos. RP06-569-008 and RP07-376-005 (consolidated) Compliance Filing to be effective 7/20/2010.

Filed Date: 4/18/16.

Accession Number: 20160418-5225.

Comments Due: 5 p.m. ET 5/2/16.

Docket Numbers: RP16-857-000.

Applicants: Eastern Shore Natural Gas Company.

Description: Compliance filing Order on Compliance with Order to be effective 4/18/2016.

Filed Date: 4/18/16.

Accession Number: 20160418-5247.

Comments Due: 5 p.m. ET 5/2/16.

Docket Numbers: RP16-858-000.

Applicants: WestGas InterState, Inc.

Description: Compliance filing NAESB Compliance Filing to be effective 4/16/2016.

Filed Date: 4/18/16.

Accession Number: 20160418-5271.

Comments Due: 5 p.m. ET 5/2/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP16-422-001.

Applicants: Monroe Gas Storage Company, LLC.

Description: Compliance filing Monroe Gas Storage April 2016 Filing for Docket No. RP16-422-000 to be effective 4/1/2016.

Filed Date: 4/18/16.

Accession Number: 20160418-5230.

Comments Due: 5 p.m. ET 5/2/16.

Docket Numbers: RP16-423-001.

Applicants: Perryville Gas Storage LLC.

Description: Compliance filing Perryville Gas Storage April 2016 Filing Docket No. RP16-423-000 to be effective 4/1/2016.

Filed Date: 4/18/16.

Accession Number: 20160418-5223.

Comments Due: 5 p.m. ET 5/2/16.

Docket Numbers: RP16-424-001.

Applicants: Cadeville Gas Storage LLC.

Description: Compliance filing Cadeville Gas Storage April 2016 Filing Docket No. RP16-424-000 to be effective 4/1/2016.

Filed Date: 4/18/16.

Accession Number: 20160418-5227.

Comments Due: 5 p.m. ET 5/2/16.

Docket Numbers: RP16-452-001.

Applicants: Sierrita Gas Pipeline LLC.

Description: Compliance filing NAESB 3.0 Compliance Filing to be effective 4/1/2016.

Filed Date: 4/18/16.

Accession Number: 20160418-5173.

Comments Due: 5 p.m. ET 5/2/16.

Docket Numbers: RP16-457-001.

Applicants: Young Gas Storage Company, Ltd.

Description: Compliance filing NAESB 3.0 Compliance Filing to be effective 4/1/2016.

Filed Date: 4/18/16.

Accession Number: 20160418-5113.

Comments Due: 5 p.m. ET 5/2/16.

Docket Numbers: RP16-458-001.

Applicants: Mojave Pipeline Company, L.L.C.

Description: Compliance filing NAESB 3.0 Compliance Filing to be effective 4/1/2016.

Filed Date: 4/18/16.

Accession Number: 20160418-5165.

Comments Due: 5 p.m. ET 5/2/16.

Docket Numbers: RP16-460-001.

Applicants: Dominion Carolina Gas Transmission, LLC.

Description: Compliance filing NAESB Compliance Filing to be effective 4/1/2016.

Filed Date: 4/18/16.

Accession Number: 20160418-5002.

Comments Due: 5 p.m. ET 5/2/16.

Docket Numbers: RP16-473-001.

Applicants: High Island Offshore System, L.L.C.

Description: Compliance filing Order 587 Compliance Filing to be effective 4/1/2016.

Filed Date: 4/18/16.

Accession Number: 20160418-5139.

Comments Due: 5 p.m. ET 5/2/16.

Docket Numbers: RP16-480-001.

Applicants: Stingray Pipeline Company, L.L.C.

Description: Compliance filing Stingray Compliance Filing to be effective 4/1/2016.

Filed Date: 4/18/16.

Accession Number: 20160418-5089

Comments Due: 5 p.m. ET 5/2/16.

Docket Numbers: RP16-483-001.

Applicants: Panther Interstate Pipeline Energy, LLC.

Description: Compliance filing Panther Compliance Filing to be effective 4/1/2016.

Filed Date: 4/18/16.

Accession Number: 20160418-5086.

Comments Due: 5 p.m. ET 5/2/16.

Docket Numbers: RP16-492-001.

Applicants: USG Pipeline Company, LLC.

Description: Compliance filing Order No. 587-W Second Compliance Filing to be effective 4/1/2016.

Filed Date: 4/18/16.

Accession Number: 20160418-5129.

Comments Due: 5 p.m. ET 5/2/16.

Docket Numbers: RP16-498-001.

Applicants: MarkWest New Mexico, L.L.C.

Description: Compliance filing MarkWest New Mexico Compliance Filing to be effective 4/1/2016.

Filed Date: 4/18/16.

Accession Number: 20160418-5087.

Comments Due: 5 p.m. ET 5/2/16.

Docket Numbers: RP16-502-001.

Applicants: MarkWest Pioneer, L.L.C.

Description: Compliance filing MarkWest Pioneer Compliance Filing to be effective 4/1/2016.

Filed Date: 4/18/16.

Accession Number: 20160418-5088.

Comments Due: 5 p.m. ET 5/2/16.

Docket Numbers: RP16-506-001.

Applicants: KPC Pipeline, LLC.

Description: Compliance filing KPC Compliance Filing to be effective 4/1/2016.

Filed Date: 4/18/16.

Accession Number: 20160418-5081.

Comments Due: 5 p.m. ET 5/2/16.

Docket Numbers: RP16-507-001.

Applicants: NGO Transmission, Inc.

Description: Compliance filing NGO Transmission Compliance Filing to be effective 4/1/2016.

Filed Date: 4/18/16.

Accession Number: 20160418-5077.

Comments Due: 5 p.m. ET 5/2/16.

Docket Numbers: RP16-508-001.

Applicants: Ryckman Creek Resources, LLC.

Description: Compliance filing NAESB 3.0 Compliance Filing to be effective 4/1/16.

Filed Date: 4/18/16.

Accession Number: 20160418-5080.

Comments Due: 5 p.m. ET 5/2/16.

Docket Numbers: RP16-510-001.

Applicants: B-R Pipeline Company.

Description: Compliance filing Order No. 587-W Second Compliance Filing to be effective 4/1/2016.

Filed Date: 4/18/16.

Accession Number: 20160418-5130.

Comments Due: 5 p.m. ET 5/2/16.

Docket Numbers: RP16-512-001.

Applicants: WBI Energy Transmission, Inc.

Description: Compliance filing Compliance Filing with Order Issued March 29 on Order Nos. 587-W & 809 to be effective 4/1/16.

Filed Date: 4/18/16.

Accession Number: 20160418-5138.

Comments Due: 5 p.m. ET 5/2/16.

Docket Numbers: RP16-518-001.

Applicants: DBM Pipeline, LLC.

Description: Compliance filing DBM Pipeline Compliance Filing to be effective 4/1/16.

Filed Date: 4/18/16.

Accession Number: 20160418-5079.

Comments Due: 5 p.m. ET 5/2/16.

Docket Numbers: RP16-522-001.

Applicants: Black Hills Shoshone Pipeline, LLC.

Description: Compliance filing NAESB 3.0 Compliance Filing to be effective 4/1/16.

Filed Date: 4/18/16.

Accession Number: 20160418-5083.

Comments Due: 5 p.m. ET 5/2/16.

Docket Numbers: RP16-528-001.

Applicants: Columbia Gulf Transmission, LLC.

Description: Compliance filing Order 809 & NAESB 3.0 April Compliance Filing to be effective 4/1/16.

Filed Date: 4/18/16.

Accession Number: 20160418-5177

Comments Due: 5 p.m. ET 5/2/16.

Docket Numbers: RP16-529-001.

Applicants: Crossroads Pipeline Company.

Description: Compliance filing GEH—Order No. 809 & NAESB 3.0 April Compliance Filing to be effective 4/1/16.

Filed Date: 4/18/16.

Accession Number: 20160418-5178.

Comments Due: 5 p.m. ET 5/2/16.

Docket Numbers: RP16-531-001.

Applicants: Boardwalk Storage Company, LLC.

Description: Compliance filing Compliance Filing in Docket No. RP16-531-000 to be effective 4/1/16.

Filed Date: 4/18/16.

Accession Number: 20160418-5180.

Comments Due: 5 p.m. ET 5/2/16.

Docket Numbers: RP16-532-001.

Applicants: Hardy Storage Company, LLC.

Description: Compliance filing Order 809 & NAESB 3.0 April Compliance Filing to be effective 4/1/16.

Filed Date: 4/18/16.

Accession Number: 20160418-5179.

Comments Due: 5 p.m. ET 5/2/16.

Docket Numbers: RP16-545-002.

Applicants: Rendezvous Pipeline Company, LLC.

Description: Compliance filing NAESB 3.0 Compliance Filing to be effective 4/1/16.

Filed Date: 4/18/16.

Accession Number: 20160418-5071.

Comments Due: 5 p.m. ET 5/2/16.

Docket Numbers: RP16-548-001.

Applicants: Trans-Union Interstate Pipeline, L.P.

Description: Compliance filing Compliance Filing for March 29th Order to be effective 4/1/16.

Filed Date: 4/18/16.

Accession Number: 20160418-5157.

Comments Due: 5 p.m. ET 5/2/16.

Docket Numbers: RP16-549-001.

Applicants: PGPipeline LLC.

Description: Compliance filing NAESB 3.0 Compliance Filing to be effective 4/1/16.

Filed Date: 4/18/16.

Accession Number: 20160418-5070.

Comments Due: 5 p.m. ET 5/2/16.

Docket Numbers: RP16-551-001.

Applicants: Maritimes & Northeast Pipeline, L.L.C.

Description: Compliance filing Maritimes RP16-551 Compliance Filing to be effective 4/1/16.

Filed Date: 4/18/16.

Accession Number: 20160418-5124.

Comments Due: 5 p.m. ET 5/2/16.

Docket Numbers: RP16-552-001.

Applicants: Millennium Pipeline Company, LLC.

Description: Compliance filing GEH—Order No 809 & NAESB 3.0 April Compliance Filing to be effective 4/1/16.

Filed Date: 4/18/16.

Accession Number: 20160418-5183.

Comments Due: 5 p.m. ET 5/2/16.

Docket Numbers: RP16-553-001.

Applicants: Central Kentucky Transmission Company.

Description: Compliance filing GEH Order 809 & NAESB 3.0 April Compliance Filing to be effective 4/1/16.

Filed Date: 4/18/16.

Accession Number: 20160418-5181.

Comments Due: 5 p.m. ET 5/2/16.

Docket Numbers: RP16-554-001.

Applicants: Arlington Storage Company, LLC.

Description: Compliance filing Arlington Storage Company, LLC.—Order No. 587-W Directed Changes to be effective 4/1/16.

Filed Date: 4/18/16.

Accession Number: 20160418-5091.

Comments Due: 5 p.m. ET 5/2/16.

Docket Numbers: RP16-555-001.

Applicants: Tres Palacios Gas Storage LLC.

Description: Compliance filing Tres Palacios Gas Storage LLC.—Order No. 587-W Directed Changes to be effective 4/1/16.

Filed Date: 4/18/16.

Accession Number: 20160418-5099.

Comments Due: 5 p.m. ET 5/2/16.

Docket Numbers: RP16-558-001.

Applicants: Stagecoach Pipeline & Storage Company LL.

Description: Compliance filing Stagecoach Pipeline & Storage Company LLC.—Order No. 587-W Directed Changes to be effective 4/1/16.

Filed Date: 4/18/16.

Accession Number: 20160418-5098.

Comments Due: 5 p.m. ET 5/2/16.

Docket Numbers: RP16-566-001.

Applicants: Total Peaking Services, L. L. C.

Description: Compliance filing TPS Order No. 809 Compliance Filing Order Changes to be effective 4/1/16.

Filed Date: 4/18/16.

Accession Number: 20160418-5204.

Comments Due: 5 p.m. ET 5/2/16.

Docket Numbers: RP16-570-001.

Applicants: Cheniere Creole Trail Pipeline, L.P.

Description: Compliance filing NAESB 3.0 Compliance Filing to be effective 4/1/2016.

Filed Date: 4/18/16.

Accession Number: 20160418-5273.

Comments Due: 5 p.m. ET 5/2/16.

Docket Numbers: RP16-577-001.

Applicants: Northwest Pipeline LLC.

Description: Compliance filing NAESB 3.0 Compliance Filing (2) to be effective 4/1/2016.

Filed Date: 4/18/16.

Accession Number: 20160418-5272.

Comments Due: 5 p.m. ET 5/2/16.

Docket Numbers: RP16-584-001.

Applicants: WestGas InterState, Inc.

Description: Compliance filing 20160418_NAESB Compliance Filing to be effective 4/1/2016.

Filed Date: 4/18/16.

Accession Number: 20160418-5233.

Comments Due: 5 p.m. ET 5/2/16.

Docket Numbers: RP16-597-002.

Applicants: Tallgrass Interstate Gas Transmission, L.

Description: Compliance filing Order No. 587-W Compliance Filing to be effective 4/1/2016.

Filed Date: 4/18/16.

Accession Number: 20160418-5172.

Comments Due: 5 p.m. ET 5/2/16.

Docket Numbers: RP16-598-002.

Applicants: Rockies Express Pipeline LLC.

Description: Compliance filing Order No. 587-W Compliance Filing to be effective 4/1/2016.

Filed Date: 4/18/16.

Accession Number: 20160418-5171.

Comments Due: 5 p.m. ET 5/2/16.

Docket Numbers: RP16-599-002.

Applicants: Trailblazer Pipeline Company LLC.

Description: Compliance filing Order No. 587 W Compliance to be effective 4/1/2016.

Filed Date: 4/18/16.

Accession Number: 20160418-5174.

Comments Due: 5 p.m. ET 5/2/16.

Docket Numbers: RP16-800-001.

Applicants: Texas Gas Transmission, LLC.

Description: Tariff Amendment: Amendment to Filing (RP16-800) to be effective 4/1/2016.

Filed Date: 4/18/16.

Accession Number: 20160418-5115.

Comments Due: 5 p.m. ET 5/2/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 19, 2016.
Nathaniel J. Davis, Sr.,
Deputy Secretary.

[FR Doc. 2016-09823 Filed 4-26-16; 8:45 am]

BILLING CODE 6717-01-P